DEPARTMENT OF COMMERCE

International Trade Administration

[A-570-898]

Amended Final Results of Antidumping Duty Administrative Review: Chlorinated Isocyanurates from the People's Republic of China

AGENCY: Import Administration, International Trade Administration, Department of Commerce.

EFFECTIVE DATE: October 20, 2008.

SUMMARY: On September 10, 2008, the Department of Commerce (“Department”) published in the Federal Register the final results of the second administrative review of the antidumping duty order on chlorinated isocyanurates from the People's Republic of China (“PRC”). See Chlorinated Isocyanurates from the People's Republic of China: Final Results of Antidumping Duty Administrative Review, 73 FR 52645 (September 10, 2008) (“Final Results”), and accompanying Issues and Decision Memorandum. The period of review covered is June 1, 2006, through May 31, 2007. We are amending our Final Results to correct ministerial errors made in the calculation of the antidumping duty margins of Hebei Jiheng Chemical Company Ltd. (“Jiheng”) and Nanning Chemical Industry Co., Ltd. (“Nanning”) pursuant to section 751(h) of the Tariff Act of 1930, as amended (“the Act”).

FOR FURTHER INFORMATION CONTACT: Jennifer Moats or Charles Riggle, AD/CVD Operations, Office 8, Import Administration, International Trade Administration, U.S. Department of Commerce, 14th Street and Constitution Avenue, NW, Washington, DC 20230; telephone: (202) 482-5047 or (202) 482-0650, respectively.

SUPPLEMENTARY INFORMATION: On September 10, 2008, Clearon Corporation and Occidental Chemical Corporation (“Petitioners”), Petitioners in the underlying investigation, filed timely ministerial error allegations with respect to the Department's antidumping duty margin calculation in the Final Results.

Scope of the Order

The products covered by this order are chlorinated isocyanurates, as described below: Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dehydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Ministerial Errors

A ministerial error as defined in section 751(h) of the Act “includes errors in addition, subtraction, or other arithmetic function, clerical errors resulting from inaccurate copying, duplication, or the like, and any other type of unintentional error which the Secretary considers ministerial.” See also 19 CFR 351.224(f).

After analyzing Petitioners comments, we have determined, in accordance with 19 CFR 351.224(e), that ministerial errors existed in certain calculations for Jiheng and Nanning in the Final Results. Correction of these errors results in a change to Jiheng's and Nanning's final antidumping duty margins. The rate for the PRC-wide entity remains unchanged. For a detailed discussion of these ministerial errors, as well as the Department's analysis, see Memorandum to Wendy J. Frankel, Director, AD/CVD Operations, Office 8, from Jennifer Moats, Senior International Trade Analyst, through Charles Riggle, Program Manager, AD/CVD Operations, Office 8: Analysis of Ministerial Error Allegations in the Final Results for Antidumping Duty Review on Chlorinated Isocyanurates from the People's Republic of China, dated concurrently with this notice. Therefore, in accordance with section 751(h) of the Act and 19 CFR 351.224(e), we are amending the Final Results of the administrative review of chlorinated isocyanurates from the PRC. The revised final weighted-average margins for Jiheng and Nanning are as follows:

Exporter/Manufacturer | Original Weighted-Average Margin Percentage | Amended Weighted-Average Margin Percentage
Jiheng | 0.80 | 0.90
Nanning | 53.67 | 54.86

Assessment Rates

The Department intends to issue assessment instructions to U.S. Customs and Border Protection (“CBP”) 15 days after the date of publication of these amended final results of review. In accordance with 19 CFR 351.212(b)(1), we have calculated importer-specific assessment rates for merchandise subject to this review.

Cash Deposit Requirements

The following deposit requirements will be effective retroactively on any entries made on or after September 10, 2008, the date of publication of the Final Results, for all shipments of subject merchandise entered, or withdrawn from warehouse, for consumption as provided by section 751(a)(2)(C) of the Act: (1) for subject merchandise exported by Jiheng, the cash deposit rate will be 0.90 percent and for subject merchandise exported by Nanning, the cash deposit rate will be 54.86 percent; (2) for previously reviewed or investigated exporters not listed above that have separate rates, the cash deposit rate will continue to be the exporter-specific rate published for the most recent period; (3) for all PRC exporters of subject merchandise, which have not been found to be entitled to a separate rate, the cash deposit rate will be the PRC-wide rate of 285.63 percent; and (4) for all non-PRC exporters of subject merchandise that have not received their own rate, the cash deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(a) and 777(i) of the Act.

Dated: October 10, 2008.
David M. Spooner,
Assistant Secretary for Import Administration.

[FR Doc. E8-24902 Filed 10-17-08; 8:45 am]

BILLING CODE 3510-DS-S